DEPARTMENT OF HOMELAND SECURITY

8 CFR Chapter I

Ratification of Department Actions

AGENCY: Department of Homeland Security (DHS).

ACTION: Ratification.

SUMMARY: The Department of Homeland Security, through its Acting Secretary, is publishing a notice of two ratification documents regarding a number of previous actions by the Department. The ratifications provide the public with certainty, by resolving any potential defect in the validity of those actions.

DATES: The ratification documents were signed on November 16, 2020 and relate back to the original date of each action ratified.

FOR FURTHER INFORMATION CONTACT: Leo (Chip) Boucher, Assistant General Counsel, Administrative Law, Office of the General Counsel, Department of Homeland Security, Washington, DC 20528, (202) 282-9822.

SUPPLEMENTARY INFORMATION: The Department of Homeland Security, through its Acting Secretary, is ratifying a number of previous actions by the Acting Secretary and by former Acting Secretary Kevin K. McAleenan, and one previous action by U. S. Citizenship and Immigration Services Deputy Director for Policy Joseph Edlow. The Department continues to maintain that the November 8, 2019, succession order designating Chad Wolf as Acting Secretary is valid and that Acting Secretary Wolf had the authority to take the actions being ratified in the attached appendix. And the Department continues to maintain that the April 9, 2019, succession order designating Kevin K. McAleenan as Acting Secretary was valid and that Acting Secretary McAleenan had the authority to take the actions being ratified in the appendix. The Department issued these ratifications and is now publishing them in the Federal Register out of an abundance of caution. Neither the ratifications nor the publication is a statement that the ratified actions would be invalid absent the ratification.

Ian Brekke,
Deputy General Counsel, U.S. Department of Homeland Security.

Appendix

BILLING CODE 9112-FP-P

[FR Doc. 2020-26060 Filed 11-23-20; 11:15 am]

BILLING CODE 9112-FP-C